DEPARTMENT OF EDUCATION

[Docket No.: ED-2022-SCC-0136]

Agency Information Collection Activities; Comment Request; Evaluating the Impact of the Professional Learning Community: Evaluating the Impact of the Professional Learning Community: Emergent Literacy (PLC-EL)

AGENCY: Institute of Education Sciences (IES), Department of Education (ED).

ACTION: Notice.

SUMMARY: In accordance with the Paperwork Reduction Act (PRA) of 1995, the Department is proposing a new information collection request (ICR).

DATES: Interested persons are invited to submit comments on or before January 23, 2023.

ADDRESSES: To access and review all the documents related to the information collection listed in this notice, please use http://www.regulations.gov by searching the Docket ID number ED-2022-SCC-0136. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Janelle Sands, 202-245-6786.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluating the Impact of the Professional Learning Community: Emergent Literacy (PLC-EL).

OMB Control Number: 1850-NEW.

Type of Review: A new ICR.

Respondents/Affected Public: Individuals and Households.

Total Estimated Number of Annual Responses: 1,726.

Total Estimated Number of Annual Burden Hours: 3,156.

Abstract: The current authorization for the Regional Educational Laboratories (REL) program is under the Education Sciences Reform Act of 2002, Part D, Section 174, (20 U.S.C. 9564), administered by the Department of Education, Institute of Education Sciences (IES), National Center for Education Evaluation and Regional Assistance (NCEE). The goal of the REL program is to partner with educators and policymakers to conduct work that is change-oriented and supports meaningful local, regional, or state decisions about education policies, programs, and practices to improve outcomes for students.

School readiness, particularly language and literacy readiness, in South Carolina (SC) remains a high-leverage need. This need is reflected in the state's Kindergarten Readiness Assessment (KRA). The KRA measures four domains of learning and development, including language and literacy. Demonstrating readiness occurs when students show the foundational skills and behaviors that prepare them for instruction based on kindergarten standards. In 2020/21 Modified KRA scores in SC revealed that only 27 percent of incoming kindergartners demonstrated readiness (South Carolina Education Oversight Committee, 2021). Achievement gaps were also observed, with 17 percent of African American kindergarteners and 13 percent of Hispanic kindergarteners meeting the demonstrating readiness mark, compared to 35 percent of White students. There is a clear need to improve equity in learning opportunities and in school readiness outcomes among SC children. Members of the SC research partnership have identified teacher professional development (PD) in language and literacy as a critical component to improving the quality of early learning and are specifically interested in understanding the effectiveness of and the facilitators and barriers to implementation of the Professional Learning Community: Emergent Literacy (PLC-EL; Kosanovich et al., 2020).

The purpose of this study is to understand the impact of the PLC-EL program on preschool teachers' knowledge, practice, and student achievement in print knowledge, phonological awareness, oral language, and vocabulary. In addition, this study will identify factors that influence program effectiveness and the facilitators and barriers of effective implementation that inform scale-up initiatives across the state. This study will using a randomized controlled trial design to help ensure that—all else equal—this study will yield the strongest, most reliable evidence possible on which to base policy and practice. The study sample will include approximately 100 preschool centers across SC, 2,940 students, 226 preschool teachers, 25 PLC-EL Facilitators, center leaders, and a subset of district and state education leaders.

The study findings will help the Office of Early Learning & Literacy (OELL) at SCDE meet its goals of improving equitable access to high-quality PD for educators and equitable access to high-quality instruction for students by training facilitators to implement the PLC-EL in a large sample of preschool centers in four separate regions of the state. In addition, the study findings will provide the OELL at SCDE with actionable information about facilitators and barriers to implementation that can be used to inform scale-up initiatives across the state.

Dated: November 17, 2022.
Juliana Pearson,
PRA Coordinator, Strategic Collections and Clearance, Governance and Strategy Division, Office of Chief Data Officer, Office of Planning, Evaluation and Policy Development.

[FR Doc. 2022-25434 Filed 11-21-22; 8:45 am]

BILLING CODE 4000-01-P